FEDERAL COMMUNICATIONS COMMISSION

47 CFR Part 73

[DA 03-3853, MB Docket No. 03-97, RM-10683]

Digital Television Broadcast Service; Juneau, AK

AGENCY: Federal Communications Commission.

ACTION: Final rule.

SUMMARY: The Commission, at the request of Capital Community Broadcasting, Inc., substitutes DTV channel *10 for DTV channel *6 at Juneau, Alaska. See 68 FR 19486, April 21, 2003. DTV channel *10 can be allotted to Juneau, Alaska, in compliance with the principle community coverage requirements of section 73.625(a) at reference coordinates 58-18-04 N. and 134-25-21 W. with a power of 0.748, HAAT of -320.3 meters and with a DTV service population of thousand 26. Since the community of Juneau is located within 400 kilometers of the U.S.-Canadian border, concurrence from the Canadian government was obtained for this allotment. With this action, this proceeding is terminated.

DATES: Effective January 20, 2004.

FOR FURTHER INFORMATION CONTACT: Pam Blumenthal, Media Bureau, (202) 418-1600.

SUPPLEMENTARY INFORMATION: This is a synopsis of the Commission's Report and Order, MB Docket No. 03-97, adopted December 2, 2003, and released December 5, 2003. The full text of this document is available for public inspection and copying during regular business hours in the FCC Reference Information Center, Portals II, 445 12th Street, SW., Room CY-A257, Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Alaska, is amended by removing DTV channel *6 and adding DTV channel *10 at Juneau.

Federal Communications Commission.
Barbara A. Kreisman,
Chief, Video Division, Media Bureau.

[FR Doc. 03-30880 Filed 12-12-03; 8:45 am]

BILLING CODE 6712-01-P